DEPARTMENT OF THE INTERIOR

Bureau of Land Management

DEPARTMENT OF ENERGY

[LLWO300000.L14300000]

Notice of Availability of the Supplement to the Draft Programmatic Environmental Impact Statement for Solar Energy Development in Six Southwestern States and Notice of Public Meetings

AGENCY: Bureau of Land Management, Interior. Department of Energy.

ACTION: Notice of availability.

SUMMARY: The Bureau of Land Management (BLM) and the Department of Energy (DOE) (the Agencies) as joint lead agencies announce the availability of the Supplement to the Draft Programmatic Environmental Impact Statement (EIS) for Solar Energy Development in Six Southwestern States (Supplement) (BLM/DES 11-49, DOE/EIS-0403D-S).

DATES: The Agencies will accept comments for ninety (90) calendar days following the date the Environmental Protection Agency publishes its Notice of Availability in the Federal Register. The Agencies will hold public meetings on the Supplement. The dates and locations of the public meetings are listed in the SUPPLEMENTARY INFORMATION section below.

ADDRESSES: You may submit comments related to the Supplement by the following methods:

• Web site: Using the online comment form available on the project Web site: http://solareis.anl.gov. This is the preferred method of commenting.

• Mail, addressed to: Solar Energy Draft PEIS, Argonne National Laboratory, 9700 S. Cass Avenue—EVS/240, Argonne, Illinois 60439.

FOR FURTHER INFORMATION CONTACT: Requests for additional information on the Supplement or general information regarding the BLM National Environmental Policy Act of 1969 (NEPA) process should be directed to Shannon Stewart, Senior Planning and Environmental Analyst, BLM Washington Office, by email at shannon_stewart@blm.gov, or by telephone at 202-912-7219. Requests for additional information on the Supplement may also be directed to Jane Summerson, DOE Solar Programmatic EIS Document Manager, by email at jane.summerson@ee.doe.gov, or by telephone at 202-287-6188. For general information regarding the DOE NEPA process, contact Carol Borgstrom, Director, Office of NEPA Policy and Compliance, GC-54, U.S. Department of Energy, 1000 Independence Avenue, SW., Washington, DC 20585, by telephone at 202-586-4600, leave a message at 1-800-472-2756, or by email at askNEPA@hq.doe.gov.

SUPPLEMENTARY INFORMATION: The Supplement, references, and additional information regarding solar energy development are available at the project Web site: http://solareis.anl.gov. An electronic copy of the Supplement also can be viewed in any BLM State Office public room in the six-state study area and is available through the BLM Web site at http://www.blm.gov. The Supplement is also available on the DOE NEPA Web site at http://energy.gov/nepa. A complete, printed copy is available for review at the following BLM offices:

• Arizona State Office, One North Central Avenue, Suite 800, Phoenix, Arizona 85004.

• Caliente Field Office, U.S. Highway 93 Building #1, Caliente, Nevada 89008.

• California Desert District, 22835 Calle San Juan De Los Lagos, Moreno Valley, California 92553.

• California State Office, 2800 Cottage Way, Suite W-1623, Sacramento, California 95825.

• Colorado State Office, 2850 Youngfield Street, Lakewood, Colorado 80215.

• Cedar City Field Office, 176 East D.L. Sargent Drive, Cedar City, Utah 84721.

• El Centro Field Office, 1661 S. 4th Street, El Centro, California 92243.

• Lake Havasu Field Office, 2610 Sweetwater Avenue, Lake Havasu City, Arizona 86406.

• Las Cruces District Office, 1800 Marquess Street, Las Cruces, New Mexico 88005.

• Lower Sonoran Field Office, 21605 N. 7th Avenue, Phoenix, Arizona 85027.

• Nevada State Office, 1340 Financial Boulevard, Reno, Nevada 89502.

• New Mexico State Office, 301 Dinosaur Trail, Santa Fe, New Mexico, 87508.

• Palm Springs—South Coast Field Office, 1201 Bird Center Drive, Palm Springs, California 92262.

• San Luis Valley Public Lands Center, 1803 West Highway 160, Monte Vista, Colorado 81144.

• Southern Nevada District Office, 4701 North Torrey Pines, Las Vegas, Nevada 89130.

• Tonopah Field Office, 1553 South Main Street, Tonopah, Nevada 89049.

• Utah State Office, 440 West 200 South, Suite 500, Salt Lake City, Utah 84101.

The BLM and the DOE will hold four public meetings on the Supplement to provide an overview of the document, answer questions, and receive public comments. The meeting site will open to the public at 6 p.m. The official meeting will begin at 7 p.m. and close after all individuals who wish to speak have been heard. The meeting dates and locations are given below. The specific venues will be announced at least 15 days in advance via local media, the project Web site (http://solareis.anl.gov/), and the DOE NEPA Web site (http://energy.gov/nepa).

• Las Vegas, Nevada—Wednesday, November 30, 2011.

• Phoenix, Arizona—Thursday, December 1, 2011.

• El Centro, California—Wednesday, December 7, 2011.

• Palm Desert, California—Thursday, December 8, 2011.

At these meetings the public will have an opportunity to provide oral and written comments. Oral and written comments from the meetings and additional comments submitted during the comment period will be considered by the Agencies in preparing the Final EIS. Comments submitted after the close of the comment period will be considered to the extent practicable.

Background

On December 17, 2010, the Agencies published a Draft Programmatic EIS for Solar Energy Development in Six Southwestern States (Arizona, California, Colorado, Nevada, New Mexico, and Utah). Public comments were accepted through May 2, 2011. More than 80,500 comments were received. The public, as well as many cooperating agencies, offered suggestions on how the Agencies could increase the utility of the document, strengthen the proposed BLM Solar Energy Program, and increase certainty regarding solar energy development on BLM-administered lands.

The Agencies have revised the Solar PEIS to better meet their solar energy objectives. The Agencies have prepared a targeted Supplement to the Draft Solar Programmatic EIS (Supplement) that includes modified and new components of the proposed BLM Solar Energy Program, DOE's proposed programmatic environmental guidance, and references to relevant portions of the Draft Solar Programmatic EIS. The Agencies have prepared this document in accordance with NEPA, as amended; the Council on Environmental Quality, the DOE, and the Department of Interior (DOI) regulations implementing NEPA; and the Federal Land Policy and Management Act of 1976, as amended. The Supplement also updates the environmental effects analysis associated with BLM's modified action alternatives.

BLM-Specific Information

The BLM has identified a need to respond in a more efficient and effective manner to the high interest in siting utility-scale solar energy development on BLM-administered lands and ensure consistent application of measures to avoid, minimize, or mitigate the adverse impacts of such development. The BLM proposes to develop a new Solar Energy Program to further support utility-scale solar energy development on BLM-administered lands. The proposed Solar Energy Program has been designed to further the BLM's ability to meet the requirements for facilitating solar energy development on BLM-administered lands established by the Energy Policy Act of 2005 (Pub. L. 109-58) and Secretarial Order 3285A1 issued by the Secretary of the Interior. In particular, the proposed program has been designed to meet the requirements of Order 3285A1 to identify and prioritize solar energy development in locations best suited for such development, called solar energy zones (SEZ). The objectives of the BLM's proposed Solar Energy Program include:

• Facilitating near-term utility-scale solar energy development on public lands;

• Minimizing potential negative environmental, social, and economic impacts;

• Providing flexibility to consider a variety of solar energy projects (e.g., by location, facility size, or technology);

• Optimizing existing transmission infrastructure and corridors; and

• Standardizing and streamlining the authorization process for utility-scale solar energy development on BLM-administered lands.

The elements of the BLM's proposed Solar Energy Program have been expanded from the Draft Solar Programmatic EIS and include:

1. Continued processing of pending applications for utility-scale solar energy development;

2. Identification of lands to be excluded from utility-scale solar energy development in the six-state study area;

3. Identification of priority areas (i.e., SEZs) that are best suited for utility-scale production of solar energy in accordance with the requirements of Secretarial Order 3285A1 and the associated authorization procedures for applications in these areas;

4. Establishment of a process to identify new SEZs;

5. Establishment of a process that allows for responsible utility-scale solar energy development outside of priority areas (i.e., variance process);

6. Establishment of mitigation requirements for solar energy development on public lands to ensure the most environmentally responsible development and delivery of solar energy; and

7. Amendment of BLM land use plans in the six-state study area to adopt those elements of the new Solar Energy Program that pertain to planning.

The alternatives being analyzed through the Supplement include the no action alternative, and two modified action alternatives, each of which would have the BLM establish a comprehensive Solar Energy Program to facilitate utility-scale solar energy development on BLM-administered lands.

On the basis of further data collection, consultation with cooperating agencies and resource managers, and analysis of comments submitted on the Draft Solar Programmatic EIS, the BLM has modified its preferred alternative to emphasize its commitment to the concept of SEZs by eliminating or adjusting SEZs to ensure they are not located in high conflict areas, establishing a protocol to identify new SEZs, and outlining incentives for projects within SEZs. In addition, the BLM has revisited ongoing state-based planning efforts to assure that such efforts could result in the identification of new SEZs. While the BLM's preferred alternative emphasizes the use and creation of SEZs for utility-scale solar energy development, the BLM also proposes a process that will accommodate responsible development outside of SEZs.

Under the modified program alternative (the BLM's preferred alternative), the BLM identifies categories of lands to be excluded from utility-scale solar energy development and identifies specific locations best suited for utility-scale production of solar energy (i.e., SEZs) where the BLM would prioritize development. The modified program alternative emphasizes and incentivizes development within SEZs and proposes a collaborative process to identify additional SEZs. In order to accommodate the flexibility described in the BLM's program objectives, the modified program alternative allows for utility-scale solar development outside of SEZs in accordance with the proposed variance process. The modified program alternative also establishes authorization policies and procedures for utility-scale solar energy development on BLM-administered lands.

Under the modified SEZ alternative, the BLM would restrict utility-scale solar energy development applications to SEZs only, and designate all other lands as exclusion areas for utility-scale solar energy development. The proposed authorization policies that are part of the modified program alternative would also apply to applications in SEZs under the modified SEZ alternative.

The no action alternative remains unchanged from the Draft Solar Programmatic EIS. The no action alternative continues the issuance of right-of-way authorizations for utility-scale solar energy development on BLM-administered lands by implementing the requirements of the BLM's existing solar energy policies. Lands available for solar energy development would include those areas currently allowable under existing applicable laws and statutes and in conformance with the approved land use plan(s). Future solar energy projects and land use plan amendments would continue to be evaluated solely on an individual, case-by-case basis.

DOE-Specific Information

The DOE is required to meet mandates under Executive Order 13212, “Actions to Expedite Energy-Related Projects” (66 FR 28357; May 22, 2001); Executive Order 13514, “Federal Leadership in Environmental, Energy, and Economic Performance” (74 FR 52117; October 8, 2009); and Section 603 of the Energy Independence and Security Act of 2007 (EISA) (Pub. L. 110-140). The DOE's purpose and need is to satisfy both executive orders and comply with congressional mandates to promote, expedite, and advance the production and transmission of environmentally sound energy resources, including renewable energy resources and, in particular, cost-competitive solar energy systems at the utility scale.

Specifically, the DOE proposes to further integrate environmental considerations into its analysis and selection of solar projects through the development of programmatic environmental guidance. The proposed DOE guidance, provided in this Supplement, builds on the BLM's analysis of potential impacts of utility-scale solar development on the environment for all phases of development to provide a technical basis. The DOE could use, as appropriate, the programmatic guidance for solar projects supported by DOE in any location, not just BLM-administered lands in the six-state study area.

The DOE will consider this guidance, including recommended environmental practices and mitigation measures, in its investment and deployment strategies and decision-making process. This guidance, based on the analyses in the Draft Solar Programmatic EIS and other information, would provide DOE with a tool for making more informed, environmentally sound decisions at the outset, help to streamline future environmental analysis and documentation for DOE-supported solar projects, and support the DOE's efforts to comprehensively (1) Determine where to make technology and resource investments to minimize the potential environmental impacts of solar technologies for DOE-supported solar projects, and (2) establish environmental mitigation recommendations for proponents of DOE solar projects to consider in project plans.

Through the Solar Programmatic EIS, the DOE is evaluating two alternatives: an action alternative and a no action alternative. Under the action alternative, the DOE would develop and adopt programmatic environmental guidance that would be used by DOE to further integrate environmental considerations into its analysis and selection of proposed solar projects. In the Supplement, DOE presents for public comment proposed guidance intended to amend its existing case-by-case approach, thus facilitating the advancement of solar energy development. Under the no action alternative, the DOE would continue its existing case-by-case process for addressing environmental concerns for solar projects supported by DOE. It would not develop programmatic environmental guidance with recommended environmental best management practices and mitigation measures that could be applied to DOE-supported solar projects.

Other Agency Involvement

Cooperating Federal agencies on the Solar Programmatic EIS include the Department of Defense; the U.S. Fish and Wildlife Service; the National Park Service; the Bureau of Reclamation; the U.S. Environmental Protection Agency, Region 9; and the U.S. Army Corps of Engineers, South Pacific Division. Other cooperating agencies on the Solar PEIS include the Arizona Game and Fish Department; the California Energy Commission and Public Utilities Commission; the Nevada Department of Wildlife, the N-4 Grazing Board, and the Southern Nevada Water Authority; the Utah Public Lands Policy Coordination Office; Clark, Esmeralda, Eureka, Lincoln, and Nye Counties, Nevada; Saguache County, Colorado; and Dona Ana County, New Mexico.

Before including your address, phone number, email address, or other personal identifying information in your comment, you should be aware that your entire comment—including your personal identifying information—may be made publicly available at any time. While you can ask us in your comment to withhold your personal identifying information from public review, we cannot guarantee that we will be able to do so.

Michael D. Nedd,
Assistant Director, Minerals and Realty Management, Bureau of Land Management.
Henry Kelly,
Acting Assistant Secretary for Energy Efficiency and Renewable Energy, Department of Energy.

Authority: 40 CFR 1506.6, 1506.10, 43 CFR 1610.2, and 10 CFR 1021.313.

[FR Doc. 2011-27874 Filed 10-27-11; 8:45 am]

BILLING CODE 4310-84-P